DEPARTMENT OF ENERGY

Federal Energy Regulatory Commission

Combined Notice of Filings #1

Take notice that the Commission received the following electric corporate filings:

Docket Numbers: EC24-107-000.

Applicants: Split Rail Solar Energy LLC, Union Electric Company d/b/a Ameren Missouri.

Description: Joint Application for Authorization Under Section 203 of the Federal Power Act of Split Rail Solar Energy LLC, et al.

Filed Date: 7/30/24.

Accession Number: 20240730-5191.

Comment Date: 5 p.m. ET 8/20/24.

Take notice that the Commission received the following exempt wholesale generator filings:

Docket Numbers: EG24-248-000.

Applicants: Blue Bird Solar, LLC.

Description: Blue Bird Solar, LLC submits Notice of Self-Certification of Exempt Wholesale Generator Status.

Filed Date: 7/31/24.

Accession Number: 20240731-5255.

Comment Date: 5 p.m. ET 8/21/24.

Take notice that the Commission received the following electric rate filings:

Docket Numbers: ER10-2437-021.

Applicants: Arizona Public Service Company.

Description: Notice of Change in Status of Arizona Public Service Company.

Filed Date: 7/30/24.

Accession Number: 20240730-5199.

Comment Date: 5 p.m. ET 8/20/24.

Docket Numbers: ER11-2375-003.

Applicants: Consolidated Edison Company of New York, Inc.

Description: Notice of Non-Material Change in Status of Consolidated Edison Company of New York, Inc.

Filed Date: 7/30/24.

Accession Number: 20240730-5193.

Comment Date: 5 p.m. ET 8/20/24.

Docket Numbers: ER11-2376-004.

Applicants: Orange and Rockland Utilities, Inc.

Description: Notice of Non-Material Change in Status of Orange and Rockland Utilities, Inc.

Filed Date: 7/30/24.

Accession Number: 20240730-5194.

Comment Date: 5 p.m. ET 8/20/24.

Docket Numbers: ER16-1720-029.

Applicants: Invenergy Energy Management LLC.

Description: Notice of Change in Status of Invenergy Energy Management LLC.

Filed Date: 7/31/24.

Accession Number: 20240731-5263.

Comment Date: 5 p.m. ET 8/21/24.

Docket Numbers: ER21-1755-010; ER23-1642-007; ER14-2498-018; ER14-2500-018.

Applicants: Newark Energy Center, LLC,EIF Newark, LLC, Stored Solar J&WE, LLC, Hartree Partners, LP.

Description: Notice of Change in Status of Hartree Partners, LP, et al.

Filed Date: 7/30/24.

Accession Number: 20240730-5197.

Comment Date: 5 p.m. ET 8/20/24.

Docket Numbers: ER21-2137-013.

Applicants: IR Energy Management LLC.

Description: Notice of Change in Status of IR Energy Management LLC.

Filed Date: 7/31/24.

Accession Number: 20240731-5261.

Comment Date: 5 p.m. ET 8/21/24.

Docket Numbers: ER22-2091-007.

Applicants: Calhoun Solar Energy LLC.

Description: Notice of Change in Status of Calhoun Solar Energy LLC.

Filed Date: 7/31/24.

Accession Number: 20240731-5265.

Comment Date: 5 p.m. ET 8/21/24.

Docket Numbers: ER23-1582-004.

Applicants: Crooked Lake Solar, LLC.

Description: Notice of Change in Status of Crooked Lake Solar, LLC.

Filed Date: 7/30/24.

Accession Number: 20240730-5204.

Comment Date: 5 p.m. ET 8/20/24.

Docket Numbers: ER23-2746-003.

Applicants: El Sol Storage LLC.

Description: Notice of Change in Status of El Sol Energy Storage LLC.

Filed Date: 7/31/24.

Accession Number: 20240731-5266.

Comment Date: 5 p.m. ET 8/21/24.

Docket Numbers: ER24-266-002.

Applicants: Solar of Alamosa LLC.

Description: Notice of Non-Material Change in Status of Solar of Alamosa LLC.

Filed Date: 7/31/24.

Accession Number: 20240731-5264.

Comment Date: 5 p.m. ET 8/21/24.

Docket Numbers: ER24-343-002.

Applicants: Nestlewood Solar I LLC.

Description: Notice of Non-Material Change in Status of Nestlewood Solar I LLC.

Filed Date: 7/30/24.

Accession Number: 20240730-5190.

Comment Date: 5 p.m. ET 8/20/24.

Docket Numbers: ER24-1958-001.

Applicants: Union Electric Company, Huck Finn Solar, LLC.

Description: Tariff Amendment: Huck Finn Solar, LLC submits tariff filing per 35.17(b): Huck Finn Deficiency Response, Req. for Exp. Action & Shortened Comment Period to be effective 12/31/9998.

Filed Date: 8/1/24.

Accession Number: 20240801-5178.

Comment Date: 5 p.m. ET 8/22/24.

Docket Numbers: ER24-1990-001.

Applicants: PJM Interconnection, L.L.C.

Description: Tariff Amendment: Response to July 5, 2024 Deficiency Notice re SA No. 7226 in ER24-1990 to be effective 4/11/2024.

Filed Date: 7/31/24.

Accession Number: 20240731-5209.

Comment Date: 5 p.m. ET 8/21/24.

Docket Numbers: ER24-2653-000.

Applicants: 69SV 8me LLC.

Description: Baseline eTariff Filing: 69SV 8me LLC MBR Tariff to be effective 9/30/2024.

Filed Date: 7/31/24.

Accession Number: 20240731-5204.

Comment Date: 5 p.m. ET 8/21/24.

Docket Numbers: ER24-2654-000.

Applicants: Morgan Stanley Capital Group Inc.

Description: 205(d) Rate Filing: Normal filing 2024 to be effective 8/1/2024.

Filed Date: 7/31/24.

Accession Number: 20240731-5205.

Comment Date: 5 p.m. ET 8/21/24.

Docket Numbers: ER24-2655-000.

Applicants: Morgan Stanley Energy Structuring, L.L.C.

Description: 205(d) Rate Filing: Normal filing 2024 to be effective 8/1/2024.

Filed Date: 7/31/24.

Accession Number: 20240731-5207.

Comment Date: 5 p.m. ET 8/21/24.

Docket Numbers: ER24-2656-000.

Applicants: Energy Prepay II, LLC.

Description: 205(d) Rate Filing: Normal filing 2024 to be effective 8/1/2024.

Filed Date: 7/31/24.

Accession Number: 20240731-5212.

Comment Date: 5 p.m. ET 8/21/24.

Docket Numbers: ER24-2657-000.

Applicants: Blue Bird Solar, LLC.

Description: Baseline eTariff Filing: Application for Market-Based Rate Authority to be effective 9/11/2024.

Filed Date: 7/31/24.

Accession Number: 20240731-5217.

Comment Date: 5 p.m. ET 8/21/24.

Docket Numbers: ER24-2658-000.

Applicants: Midcontinent Independent System Operator, Inc.

Description: 205(d) Rate Filing: 2024-08-01_SA 4312 OTP-Red Lake County Community Hybrid LLC GIA (R121) to be effective 8/25/2024.

Filed Date: 8/1/24.

Accession Number: 20240801-5029.

Comment Date: 5 p.m. ET 8/22/24.

Docket Numbers: ER24-2659-000.

Applicants: PJM Interconnection, L.L.C.

Description: 205(d) Rate Filing: Original WMPA, Service Agreement No. 7313; AG1-282 to be effective 7/2/2024.

Filed Date: 8/1/24.

Accession Number: 20240801-5030.

Comment Date: 5 p.m. ET 8/22/24.

Docket Numbers: ER24-2660-000.

Applicants: Midcontinent Independent System Operator, Inc.

Description: 205(d) Rate Filing: 2024-08-01_SA 4315 ITC Midwest-Kinsella Energy GIA (J1444) to be effective 7/23/2024.

Filed Date: 8/1/24.

Accession Number: 20240801-5032.

Comment Date: 5 p.m. ET 8/22/24.

Docket Numbers: ER24-2661-000.

Applicants: Rpower, LLC.

Description: Baseline eTariff Filing: RPower, LLC Application For Market Based Rate Authority to be effective 10/1/2024.

Filed Date: 8/1/24.

Accession Number: 20240801-5078.

Comment Date: 5 p.m. ET 8/22/24.

Docket Numbers: ER24-2662-000.

Applicants: Duane Arnold Solar II, LLC.

Description: Baseline eTariff Filing: Duane Arnold Solar II—Application for Market-Based Rate Authorization to be effective 10/1/2024.

Filed Date: 8/1/24.

Accession Number: 20240801-5095.

Comment Date: 5 p.m. ET 8/22/24.

Docket Numbers: ER24-2663-000.

Applicants: Anticline Wind, LLC.

Description: Baseline eTariff Filing: Anticline Wind, LLC Application for Market-Based Rate Authorization to be effective 10/1/2024.

Filed Date: 8/1/24.

Accession Number: 20240801-5097.

Comment Date: 5 p.m. ET 8/22/24.

Docket Numbers: ER24-2664-000.

Applicants: Cedar Springs Wind IV, LLC.

Description: Baseline eTariff Filing: Cedar Springs Wind IV, LLC Application for Market-Based Rate Authorization to be effective 10/1/2024.

Filed Date: 8/1/24.

Accession Number: 20240801-5100.

Comment Date: 5 p.m. ET 8/22/24.

Docket Numbers: ER24-2665-000.

Applicants: UGI Utilities, Inc., PJM Interconnection, L.L.C.

Description: 205(d) Rate Filing: UGI Utilities, Inc. submits tariff filing per 35.13(a)(2)(iii: UGIU submits revisions to OATT Attachment H-8C to be effective 10/1/2024.

Filed Date: 8/1/24.

Accession Number: 20240801-5106.

Comment Date: 5 p.m. ET 8/22/24.

Docket Numbers: ER24-2666-000.

Applicants: 68SF 8me LLC.

Description: 205(d) Rate Filing: 68SF 8me LLC Shared Facilities Agreement to be effective 10/1/2024.

Filed Date: 8/1/24.

Accession Number: 20240801-5111.

Comment Date: 5 p.m. ET 8/22/24.

Docket Numbers: ER24-2667-000.

Applicants: 68SF 8me LLC.

Description: 205(d) Rate Filing: 68SF 8me LGIA Co-Tenancy Agreement to be effective 10/1/2024.

Filed Date: 8/1/24.

Accession Number: 20240801-5112.

Comment Date: 5 p.m. ET 8/22/24.

Docket Numbers: ER24-2668-000.

Applicants: LS Power Grid California, LLC.

Description: 205(d) Rate Filing: LS Power Grid California eTariff Filing to be effective 10/1/2024.

Filed Date: 8/1/24.

Accession Number: 20240801-5113.

Comment Date: 5 p.m. ET 8/22/24.

Docket Numbers: ER24-2669-000.

Applicants: CleanChoice Power Solutions, LLC.

Description: Baseline eTariff Filing: Baseline new to be effective 9/1/2024.

Filed Date: 8/1/24.

Accession Number: 20240801-5154.

Comment Date: 5 p.m. ET 8/22/24.

Docket Numbers: ER24-2670-000.

Applicants: Tri-State Generation and Transmission Association, Inc.

Description: 205(d) Rate Filing: Initial Filing of Rate Schedule FERC Nos. 377 Through 386 to be effective 10/1/2024.

Filed Date: 8/1/24.

Accession Number: 20240801-5160.

Comment Date: 5 p.m. ET 8/22/24.

Docket Numbers: ER24-2671-000.

Applicants: California Independent System Operator Corporation.

Description: 205(d) Rate Filing: 2024-08-01 Interconnection Process Enhancements 2023 Initiative—Track 2 to be effective 10/1/2024.

Filed Date: 8/1/24.

Accession Number: 20240801-5172.

Comment Date: 5 p.m. ET 8/22/24.

Docket Numbers: ER24-2672-000.

Applicants: Puget Sound Energy, Inc.

Description: 205(d) Rate Filing: Glendive Wind Project to be effective 6/18/2024.

Filed Date: 8/1/24.

Accession Number: 20240801-5173.

Comment Date: 5 p.m. ET 8/22/24.

Docket Numbers: ER24-2673-000.

Applicants: Puget Sound Energy, Inc.

Description: 205(d) Rate Filing: Glendive Wind 2 Project to be effective 6/17/2024.

Filed Date: 8/1/24.

Accession Number: 20240801-5174.

Comment Date: 5 p.m. ET 8/22/24.

Docket Numbers: ER24-2674-000.

Applicants: 69SV 8me LLC.

Description: 205(d) Rate Filing: 69SV 8me LLC Shared Facilities Agreement to be effective 10/1/2024.

Filed Date: 8/1/24.

Accession Number: 20240801-5186.

Comment Date: 5 p.m. ET 8/22/24.

Docket Numbers: ER24-2675-000.

Applicants: 69SV 8me LLC.

Description: 205(d) Rate Filing: 69SV 8me LLC LGIA Co-Tenancy Agreement to be effective 10/1/2024.

Filed Date: 8/1/24.

Accession Number: 20240801-5189.

Comment Date: 5 p.m. ET 8/22/24.

Docket Numbers: ER24-2676-000.

Applicants: Cedar River Transmission, LLC.

Description: 205(d) Rate Filing: Cedar River Transmission, LLC, et al.'s Shared Facilities Agreement to be effective 10/1/2024.

Filed Date: 8/1/24.

Accession Number: 20240801-5192.

Comment Date: 5 p.m. ET 8/22/24.

Docket Numbers: ER24-2677-000.

Applicants: PJM Interconnection, L.L.C.

Description: 205(d) Rate Filing: Original WMPA Service Agreement No. 7314, AG1-532 to be effective 7/2/2024.

Filed Date: 8/1/24.

Accession Number: 20240801-5218.

Comment Date: 5 p.m. ET 8/22/24.

Docket Numbers: ER24-2678-000.

Applicants: PJM Interconnection, L.L.C.

Description: 205(d) Rate Filing: Amendment to ISA and CSA, SA Nos. 6527 and 6515; Queue No. AC1-053 to be effective 10/1/2024.

Filed Date: 8/1/24.

Accession Number: 20240801-5220.

Comment Date: 5 p.m. ET 8/22/24.

Take notice that the Commission received the following electric securities filings:

Docket Numbers: ES24-52-000; ES24-53-000; ES24-54-000; ES24-55-000.

Applicants: Evergy Missouri West, Inc., Evergy Metro, Inc., Evergy Kansas South, Inc., Evergy Kansas Central, Inc.

Description: Application Under Section 204 of the Federal Power Act for Authorization to Issue Securities of Evergy Kansas Central, Inc., et al.

Filed Date: 7/30/24.

Accession Number: 20240730-5202.

Comment Date: 5 p.m. ET 8/20/24.

Docket Numbers: ES24-56-000.

Applicants: Evergy Missouri West, Inc.

Description: Application Under Section 204 of the Federal Power Act for Authorization to Issue Securities of Evergy Missouri West, Inc.

Filed Date: 7/30/24.

Accession Number: 20240730-5205.

Comment Date: 5 p.m. ET 8/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 1, 2024.
Debbie-Anne A. Reese,
Acting Secretary.

[FR Doc. 2024-17497 Filed 8-7-24; 8:45 am]

BILLING CODE 6717-01-P